Title 3—

The President

Memorandum of May 7, 2015

Delegation of Authority Pursuant to Section 302(b) of the Sean and David Goldman International Child Abduction Prevention and Return Act of 2014

Memorandum for the Secretary of State

By the authority vested in me as President by the Constitution and the laws of the United States of America, including section 301 of title 3, United States Code, I hereby delegate the functions and authorities vested in the President by section 302(b) of the Sean and David Goldman International Child Abduction Prevention and Return Act of 2014 (Public Law 113-150) (the “Act”), to the Secretary of State.

Any reference in this memorandum to the Act shall be deemed to be a reference to any future act that is the same or substantially the same as such provision.

You are authorized and directed to publish this memorandum in the Federal Register.

THE WHITE HOUSE,

Washington, May 7, 2015

[FR Doc. 2015-14249

Filed 6-8-15; 11:15 am]

Billing code 4710-10